DEPARTMENT OF EDUCATION

Applications for New Awards; Rehabilitation Short-Term Training: Client Assistance Program; Correction

AGENCY: Office of Special Education and Rehabilitative Services, Department of Education.

ACTION: Notice; correction.

SUMMARY: On June 23, 2021, the Department of Education (Department) published in the Federal Register a notice inviting applications (NIA) for new awards for fiscal year (FY) 2021 for Rehabilitation Short-Term Training: Client Assistance Program, Assistance Listing Number 84.246K. We are correcting the deadline for intergovernmental review. All other information in the NIA, including the August 9, 2021, deadline for transmittal of applications, remains the same.

DATES: This correction is applicable July 28, 2021.

FOR FURTHER INFORMATION CONTACT: Felipe Lulli, U.S. Department of Education, 400 Maryland Avenue SW, room 5051, Potomac Center Plaza, Washington, DC 20212-2800. Telephone: (202) 245-7425. Email: 84.246K@ed.gov.

If you use a telecommunications device for the deaf (TDD) or a text telephone (TTY), call the Federal Relay Service (FRS), toll free, at 1-800-877-8339.

SUPPLEMENTARY INFORMATION: On June 23, 2021, we published the NIA in the Federal Register (86 FR 32909). The NIA stated that the deadline for intergovernmental review is October 6, 2021. This notice corrects the deadline for intergovernmental review, from October 6, 2021, to September 3, 2021. All other requirements and conditions in the NIA remain the same.

Correction:

In FR Doc. 2021-13190 appearing on pages 32910-32915 of the Federal Register of June 23, 2021, the following corrections are made:

1. On page 32910, in the first column, under the caption “Dates” and after the heading “Deadline for Intergovernmental Review”, remove “October 6, 2021” and add in its place “September 3, 2021”.

2. On page 32912, in the second column, in section IV, at the end of paragraph 3 entitled “Intergovernmental Review”, add the following sentence:

Please note that, under 34 CFR 79.8(a), we have shortened the standard 60-day intergovernmental review period in order to make awards by the end of Federal FY 2021.

Program Authority: 29 U.S.C. 772(a)(1).

Accessible Format: On request to the contact person listed under FOR FURTHER INFORMATION CONTACT, individuals with disabilities can obtain this notice, the NIA, and a copy of the application in an accessible format. The Department wll provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Acting Assistant Secretary for the Office of Special Education and Rehabilitative Services.

[FR Doc. 2021-16013 Filed 7-27-21; 8:45 am]

BILLING CODE 4000-01-P